DEPARTMENT OF TRANSPORTATION

Federal Aviation Administration

Notice of Land Use Change and Release of Grant Assurance Restrictions at the Reid Hill View Airport and San Martin Airport, Santa Clara County, California

AGENCY: Federal Aviation Administration, DOT.

ACTION: Notice of a non-aeronautical land-use change.

SUMMARY: The Federal Aviation Administration (FAA) proposes to rule and invites public comment on the application for a land-use change for approximately 2.7 acres of airport property at Reid Hill View Airport, and approximately 2.999 acres at San Martin Airport, Santa Clara County, California. The land use change will allow a partial release of airport land from the aeronautical use provisions of the Grant Assurances that require it to serve an airport purposes since the land is not needed for aeronautical uses. The land for partial release is 2.7 acres of a 55.09 acre parcel at Reid Hill View Airport and is currently vacant. The land for partial release is 2.999 acres of a 63.79 acre parcel at San Martin Airport and is also currently vacant. Solar systems will be placed on the leased parcels to generate clean renewable energy for Santa Clara County. In return, fair market value rent will be paid as lease revenue at both airports. This project will serve the interest of civil aviation by contributing to the self-sustainability of the two airports.

DATES: Comments must be received on or before June 22, 2017.

FOR FURTHER INFORMATION CONTACT: Comments on the request may be mailed or delivered to the FAA at the following address: Mr. James W. Lomen, Manager, Federal Aviation Administration, San Francisco Airports District Office, Federal Register Comment, 1000 Marina Boulevard, Suite 220, Brisbane, CA 94005. In addition, one copy of the comment submitted to the FAA must be mailed or delivered to Mr. Lin Ortega, Utilities Engineer Program Manager, 2310 N. 1st Street, Suite 200, San Jose, California 95131.

SUPPLEMENTARY INFORMATION: In accordance with the Wendell H. Ford Aviation Investment and Reform Act for the 21st Century (AIR 21), Public Law 106-181 (Apr. 5, 2000; 114 Stat. 61), this notice must be published in the Federal Register 30 days before the Secretary may waive any condition imposed on a federally obligated airport by surplus property conveyance deeds or grant agreements.

The following is a brief overview of the request:

The County of Santa Clara, California requested a modification to the conditions in the Grant Assurances to permit a partial release of 2.7 acres of a 55.09 acre parcel at Reid Hill View Airport and 2.999 acres of a 63.79 acre parcel at San Martin Airport for the construction, maintenance, and operation of two proposed solar PV (photovoltaic) systems. The release will allow the affected airport land to be used for a non-aeronautical purpose. Fair market value lease revenue will be paid on an annual basis at both airports. This project will serve the interest of civil aviation by making the airports as self-sustaining as possible.

Issued in Brisbane, California, on May 16, 2017.
James W. Lomen,
Manager, San Francisco Airports District Office, Western-Pacific Region.

[FR Doc. 2017-10567 Filed 5-22-17; 8:45 am]

BILLING CODE 4910-13-P